DEPARTMENT OF THE INTERIOR

Bureau of Land Management

[LLOROR957000-L62510000-PM000: HAG10-0345]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 41 S., R. 4 W., accepted June 29, 2010

T. 39 S., R. 1 W., accepted June 29, 2010

T. 4 S., R. 3 E., accepted June 29, 2010

T. 11 S., R. 2 E., accepted July 2, 2010

T. 3 N., R. 35 E., accepted July 9, 2010

T. 7 S., R. 7 W., accepted July 9, 2010

T. 20 S., R. 7 W., accepted July 19, 2010

T. 12 S., R. 2 E., accepted July 22, 2010

T. 18 S., R. 35 E., accepted July 22, 2010

T. 23 S., R. 3 W., accepted August 2, 2010

ADDRESSES: A copy of the plats may be obtained from the Land Office at the Oregon/Washington State Office, Bureau of Land Management, 333 SW., 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 SW., 1st Avenue, Portland, Oregon 97204.

Cathie Jensen,
Branch of Land, Mineral, and Energy Resources.

[FR Doc. 2010-20082 Filed 8-13-10; 8:45 am]

BILLING CODE 4310-33-P